DEPARTMENT OF ENERGY

Federal Energy Regulatory Commission

[Docket No. EL15-94-000]

Shell Energy North America (US) L.P. v. California Independent System Operator Corporation; Notice of Complaint

Take notice that on August 24, 2015, pursuant to sections 306 and 206 of the Federal Power Act, 16 U.S.C. 824e, 825e (2012), and section 206 of the Rules of Practice and Procedure of the Federal Energy Regulatory Commission's (Commission), 18 CFR 385.206 (2013), Shell Energy North America (US) L.P. (Complainant) filed a formal complaint against California Independent System Operator Corporation (CAISO or Respondent) requesting that the Commission issue an order requiring CAISO to correct Shell Energy's settlement statement for trade month August 2010 and refund improper charges caused by CAISO's unilateral error. Complainant alleged that the Respondent's Section 11.29.8.4.6 of the Tariff is unjust and unreasonable as more fully explained in the complaint.

The Complainant states that copies of the Section 306 and 206 Complaints were served on representatives of the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on September 25, 2015.

Dated: August 26, 2015.
Nathaniel J. Davis, Sr.,
Deputy Secretary.

[FR Doc. 2015-21751 Filed 9-1-15; 8:45 am]

BILLING CODE 6717-01-P